POSTAL REGULATORY COMMISSION

39 CFR Part 3010

[Docket No. RM2013-2; Order No. 1786]

Price Cap Rules for Certain Postal Rate Adjustments; Corrections

AGENCY: Postal Regulatory Commission.

ACTION: Correcting amendments.

SUMMARY: The Postal Regulatory Commission published a document in the Federal Register on August 26, 2013 (78 FR 52694), revising Commission rules. Due to a clerical error, the document submitted to the Federal Register was inconsistent with the rules adopted in Commission Order No. 1786. This document corrects the final regulations published in the Federal Register to be consistent with the rules adopted in Order No. 1786.

DATES: Effective: November 13, 2013, and is applicable beginning September 25, 2013.

FOR FURTHER INFORMATION CONTACT: Stephen L. Sharfman, General Counsel, 202-789-6820.

SUPPLEMENTARY INFORMATION: In a notice posted November 6, 2013, on PRC's Web site, the Commission identified discrepancies between the text of several sections of rules adopted in Order No. 1786, issued on July 23, 2013, and the text of those sections of the rules as published in the Federal Register. This document transmits the corrections to the Federal Register, and has been drafted in conformance with Office of the Federal Register (OFR) requirements for substantive corrections to rules that have already taken effect. The corrections are applicable as of September 25, 2013, which coincides with the date the underlying final rules took effect.

Section 3010.11. One correction changes the word “limitations” to the singular form in three places in § 3010.11 (paragraphs (b)(2), (d), and (k)) and aligns the presentation of section symbols in paragraphs (d) and (k) with OFR codification practice.

Section 3010.23(d). The Federal Register version omits a qualifying phrase at the outset of the third sentence in § 3010.23(d). It also refers to historic volume data. The correction revises the rule to include the qualifying phrase “Whenever possible,” at the outset of the sentence and replaces historic with historical. These corrections are consistent with Order No. 1786 as issued.

Section 3010.28. The Federal Register version omits a reference to Type 1-B in the heading of § 3010.28 in both the table of contents for subpart C and in the presentation of this section in the main body of the regulations. The instruction corrects these omissions by revising the section heading where it appears in the main body. The OFR automatically generates a corresponding change in the table of contents based on this instruction.

Section 3010.42(f). Section 3010.42(f) is revised to reflect the inadvertent omission of the introductory text of a third paragraph in Order No. 1786 as issued and the impact this had on the presentation of the second sentence. The omission resulted in the second sentence in the rule as published including text associated with the omitted third sentence. To remedy this, the correcting instruction replaces the colon in the second sentence of § 3010.42(f) as it appeared in the Federal Register version with a period, consistent with the presentation of this sentence as adopted in Order No. 1786. This change in punctuation results in the deletion of all the text following the colon in the Federal Register version, so the instruction adds the third sentence as presented in Order No. 1786 as adopted, which includes introductory text and the subparagraphs that were erroneously associated with the second sentence in the Federal Register version. The text of those subparagraphs remains unchanged, but the designations for § 3010.42(f)(5)(A) and (B) in Order No. 1786 as adopted should have been to § 3010.42(f)(5)(i) and (ii), respectively, to conform to mandatory OFR codification requirements.

Following publication in the Federal Register, these corrections will be reflected in the daily electronic Code of Federal Regulations.

List of Subjects in 39 CFR Part 3010

Administrative practice and procedure; Postal Service.

Accordingly, 39 CFR part 3010 is corrected by making the following correcting amendments:

PART 3010—REGULATION OF RATES FOR MARKET DOMINANT PRODUCTS

1. The authority citation for part 3010 continues to read as follows:

Authority: 39 U.S.C. 503; 3622.

2. In § 3010.11, revise paragraphs (b)(2), (d), and (k) to read as follows:

§ 3010.11 Proceedings for Type 1-A and Type 1-B rate adjustment filings.

* * * * *

(b) * * *

(2) Whether the planned rate adjustments measured using the formula established in § 3010.23(c) are at or below the limitation established in § 3010.28.

* * * * *

(d) Within 14 days of the conclusion of the public comment period the Commission will determine, at a minimum, whether the planned rate adjustments are consistent with the annual limitation calculated under §§ 3010.21 or 3010.22, as applicable, the limitation set forth in § 3010.28, and 39 U.S.C. 3626, 3627, and 3629 and issue an order announcing its findings.

* * * * *

(k) A Commission finding that a planned Type 1-A or Type 1-B rate adjustment is in compliance with the annual limitation calculated under §§ 3010.21 or 3010.22, as applicable; the limitation set forth in § 3010.28; and 39 U.S.C. 3626, 3627, and 3629 is decided on the merits. A Commission finding that a planned Type 1-A or Type 1-B rate adjustment does not contravene other policies of 39 U.S.C. chapter 36, subchapter I is provisional and subject to subsequent review.

3. In § 3010.23, revise the third sentence of paragraph (d) to read as follows:

§ 3010.23 Calculation of percentage change in rates.

* * * * *

(d) * * * Whenever possible, adjustments shall be based on known mail characteristics or historical volume data, as opposed to forecasts of mailer behavior. * * *

4. In § 3010.28, revise the section heading to read as follows:

§ 3010.28 Maximum size of Type 1-B rate adjustments.

* * * * *

5. In § 3010.42, revise paragraph (f) to read as follows:

§ 3010.42 Contents of notice of agreement in support of a Type 2 rate adjustment.

* * * * *

(f) Details regarding the expected improvements in the net financial position or operations of the Postal Service. The projection of change in net financial position as a result of the agreement shall be based on accepted analytical principles. The projection of change in net financial position as a result of the agreement shall include for each year of the agreement:

(1) The estimated mailer-specific costs, volumes, and revenues of the Postal Service absent the implementation of the negotiated service agreement;

(2) The estimated mailer-specific costs, volumes, and revenues of the Postal Service which result from implementation of the negotiated service agreement;

(3) An analysis of the effects of the negotiated service agreement on the contribution to institutional costs from mailers not party to the agreement;

(4) If mailer-specific costs are not available, the source and derivation of the costs that are used shall be provided, together with a discussion of the currency and reliability of those costs and their suitability as a proxy for the mailer-specific costs; and

(5) If the Postal Service believes the Commission's accepted analytical principles are not the most accurate and reliable methodology available:

(i) An explanation of the basis for that belief; and

(ii) A projection of the change in net financial position resulting from the agreement made using the Postal Service's alternative methodology.

* * * * *

By the Commission.
Shoshana M. Grove,
Secretary.

[FR Doc. 2013-27159 Filed 11-8-13; 11:15 am]

BILLING CODE P